DEPARTMENT OF TRANSPORTATION

Federal Aviation Administration

14 CFR Part 39

[Docket No. FAA-2012-0327; Directorate Identifier 2011-NM-125-AD]

RIN 2120-AA64

Airworthiness Directives; The Boeing Company Airplanes

AGENCY: Federal Aviation Administration (FAA), DOT.

ACTION: Notice of proposed rulemaking (NPRM).

SUMMARY: We propose to supersede an existing airworthiness directive (AD) that applies to certain The Boeing Company Model DC-10-10, DC-10-10F, DC-10-15, DC-10-30, DC-10-30F (KC-10A and KDC-10), DC-10-40, DC-10-40F, MD-10-10F, and MD-10-30F airplanes. The existing AD currently requires installing or replacing with improved parts, as applicable, the bonding straps between the metallic frame of the fillet and the wing leading edge ribs, on both the left and right sides of the airplane. The existing AD also requires, for certain airplanes, repositioning or replacing two bonding straps, doing a bonding-resistance check and an inspection to determine correct installation of certain bonding straps, and applicable corrective actions. Since we issued that AD, we have determined that additional actions are necessary to address the identified unsafe condition. This proposed AD would add airplanes to the applicability and retain the requirements of the existing AD. This proposed AD would also require, depending on the airplane configuration, installing new braided bonding straps, inspecting to determine if a certain strap is installed and replacing with or installing a braided bonding strap if necessary, measuring the electrical resistance of the bonding straps, verifying that brackets have an acceptable fillet seal, and corrective actions if necessary. We are proposing this AD to reduce the potential of ignition sources inside fuel tanks in the event of a severe lightning strike, which, in combination with flammable fuel vapors, could result in fuel tank explosions and consequent loss of the airplane.

DATES: We must receive comments on this proposed AD by May 14, 2012.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this proposed AD, contact Boeing Commercial Airplanes, Attention: Data & Services Management, 3855 Lakewood Boulevard, MC D800-0019, Long Beach, California 90846-0001; telephone 206-544-5000, extension 2; fax 206-766-5683; email dse.boecom@boeing.com; Internet https://www.myboeingfleet. You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Samuel Lee, Aerospace Engineer, Propulsion Branch, ANM-140L, FAA, Los Angeles Aircraft Certification Office, 3960 Paramount Boulevard, Lakewood, California 90712-4137; phone: 562-627-5262; fax: 562-627-5210; email: Samuel.Lee@faa.gov.

SUPPLEMENTARY INFORMATION:

Comments Invited

We invite you to send any written relevant data, views, or arguments about this proposed AD. Send your comments to an address listed under the ADDRESSES section. Include “Docket No. FAA-2012-0327; Directorate Identifier 2011-NM-125-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On December 17, 2009, we issued AD 2009-26-17, Amendment 39-16156 (74 FR 69268, December 31, 2009), for certain Boeing Model DC-10-10, DC-10-10F, DC-10-15, DC-10-30, DC-10-30F (KC-10A and KDC-10), DC-10-40, DC-10-40F, MD-10-10F, and MD-10-30F airplanes. That AD requires installing or replacing with improved parts, as applicable, the bonding straps between the metallic frame of the fillet and the wing leading edge ribs, on both the left and right sides of the airplane. That AD also requires, for certain airplanes, repositioning or replacing two bonding straps, and doing a bonding-resistance check and an inspection to determine correct installation of certain bonding straps, and applicable corrective actions. That AD resulted from fuel system reviews conducted by the manufacturer. We issued that AD to reduce the potential of ignition sources inside fuel tanks in the event of a severe lightning strike, which, in combination with flammable fuel vapors, could result in fuel tank explosions and consequent loss of the airplane.

Actions Since Existing AD 2009-26-17, Amendment 39-16156 (74 FR 69268, December 31, 2009) Was Issued

Since we issued AD 2009-26-17, Amendment 39-16156 (74 FR 69268, December 31, 2009), Boeing has issued new service information that specifies additional actions that are necessary to address the identified unsafe condition.

Relevant Service Information

We reviewed Boeing Service Bulletin DC10-53-111, Revision 7, dated March 16, 2011, which makes minor corrections and adds part number substitutions.

We also reviewed Boeing Service Bulletin DC10-53-109, Revision 8, dated March 10, 2011. This service information reinstates airplanes inadvertently omitted from the prior revision of this service information, and describes new additional actions. This service information describes:

• New procedures for installing new braided bonding straps, depending on the airplane configuration.

• Inspecting to determine if a certain strap is installed, and replacing with or installing a braided bonding strap if necessary.

• Measuring the electrical resistance of the bonding straps.

• Verifying that brackets have an acceptable fillet seal.

• Corrective actions if necessary.

Corrective actions include cleaning braided bonding straps, and repairing damaged or missing fillet seals.

FAA's Determination

We are proposing this AD because we evaluated all the relevant information and determined the unsafe condition described previously is likely to exist or develop in other products of the same type design.

Proposed AD Requirements

This proposed AD would retain all requirements of AD 2009-26-17, Amendment 39-16156 (74 FR 69268, December 31, 2009). This proposed AD would also require accomplishing the additional actions specified in the service information described previously.

Changes to Existing AD 2009-26-17, Amendment 39-16156 (74 FR 69268, December 31, 2009)

Since AD 2009-26-17, Amendment 39-16156 (74 FR 69268, December 31, 2009), was issued, the AD format has been revised, and certain paragraphs have been rearranged. As a result, the service bulletins listed in Table 1 of AD 2009-26-17 are listed in paragraph (g)(2) of this proposed AD, and the service bulletins listed in Table 2 of AD 2009-26-17 are listed in paragraph (g)(1) of this proposed AD.

We also revised paragraph (h) of this proposed AD to describe the affected airplanes. Paragraph (h) of AD 2009-26-17, Amendment 39-16156 (74 FR 69268, December 31, 2009), specifies that it is “for airplanes with fuselage numbers not identified in Table 2 of this AD * * *.” Since this proposed AD adds airplanes, we have revised that sentence as follows: “For airplanes with fuselage numbers identified in the applicable service bulletin listed in paragraph (g)(2) of this AD that are not also identified in the applicable service bulletin listed in paragraph (g)(1) of this AD * * *.”

In addition, we have revised the wording of paragraph (k) of AD 2009-26-17, Amendment 39-16156 (74 FR 69268, December 31, 2009); however, the intent of that paragraph has not changed.

Costs of Compliance

We estimate that this proposed AD affects 208 airplanes of U.S. registry.

We estimate the following costs to comply with this proposed AD:

Estimated Costs
Action | Labor cost | Parts cost | Cost per product | Cost on U.S. operators
Installation, inspection, and resistance measurement [retained actions from existing AD 2009-26-17, Amendment 39-16156 (74 FR 69268, December 31, 2009)] | Up to 17 work-hours × $85 per hour = $1,445 | Up to $4,169 | Up to $5,614 | Up to $1,167,712.
Installation, inspection, and resistance measurement [new proposed action] | Up to 16 work-hours × $85 per hour = $1,360 | Up to $33,230 | Up to $34,590 | Up to $7,194,720.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2009-26-17, Amendment 39-16156 (74 FR 69268, December 31, 2009), and adding the following new AD:

The Boeing Company: Docket No. FAA-2012-0327; Directorate Identifier 2011-NM-125-AD.

(a) Comments Due Date

The FAA must receive comments on this AD action by May 14, 2012.

(b) Affected ADs

This AD supersedes AD 2009-26-17, Amendment 39-16156 (74 FR 69268, December 31, 2009).

(c) Applicability

This AD applies to The Boeing Company Model DC-10-10, DC-10-10F, DC-10-15, DC-10-30, DC-10-30F (KC-10A and KDC-10), DC-10-40, and DC-10-40F airplanes, and Model MD-10-10F and MD-10-30F airplanes that have been converted from Model DC-10 series airplanes; certificated in any category; as identified in paragraph (c)(1) or (c)(2) of this AD, as applicable.

(1) Boeing Service Bulletin DC10-53-109, Revision 8, dated March 10, 2011 (for airplanes with extended wing-to-fuselage fillets).

(2) Boeing Service Bulletin DC10-53-111, Revision 7, dated March 16, 2011 (for airplanes with conventional wing-to-fuselage fillets).

(d) Subject

Joint Aircraft System Component (JASC)/Air Transport Association (ATA) of America Code 53, Fuselage.

(e) Unsafe Condition

This AD was prompted by fuel system reviews conducted by the manufacturer. We are issuing this AD to reduce the potential of ignition sources inside fuel tanks in the event of a severe lightning strike, which, in combination with flammable fuel vapors, could result in fuel tank explosions and consequent loss of the airplane.

(f) Compliance

Comply with this AD within the compliance times specified, unless already done.

(g) Restatement of Requirements of AD 2006-16-03, Amendment 39-14703 (71 FR 43962, August 3, 2006), With New Service Information: Install or Replace

For airplanes with manufacturer's fuselage numbers identified in the applicable service bulletin listed in paragraph (g)(1) of this AD: Within 7,500 flight hours or 60 months after September 7, 2006 (the effective date of AD 2006-16-03, Amendment 39-14703 (71 FR 43962, August 3, 2006)), whichever occurs earlier: Install or replace with improved parts, as applicable, the bonding straps between the metallic frame of the fillet and the wing leading edge ribs, on both the left and right sides of the airplane, in accordance with the Accomplishment Instructions of the applicable service bulletin identified in paragraph (g)(1), (g)(2), or (g)(3) of this AD. After February 4, 2010 (the effective date of AD 2009-26-17, Amendment 39-16156 (74 FR 69268, December 31, 2009)), use the applicable service bulletin identified in paragraph (g)(2) or (g)(3) of this AD. After the effective date of this AD, use only the applicable service bulletin identified in paragraph (g)(3) of this AD to do the actions required by this paragraph.

(1) McDonnell Douglas DC-10 Service Bulletin 53-109, Revision 4, dated October 7, 1992 (for airplanes with extended wing-to-fuselage fillets); or McDonnell Douglas DC-10 Service Bulletin 53-111, Revision 3, dated August 24, 1992 (for airplanes with conventional wing-to-fuselage fillets).

(2) Boeing Service Bulletin DC10-53-109, Revision 7, dated March 3, 2009 (for airplanes with extended wing-to-fuselage fillets); or Boeing Service Bulletin DC10-53-111, Revision 6, dated March 3, 2009 (for airplanes with conventional wing-to-fuselage fillets).

(3) Boeing Service Bulletin DC10-53-109, Revision 8, dated March 10, 2011 (for airplanes with extended wing-to-fuselage fillets); or Boeing Service Bulletin DC10-53-111, Revision 7, dated March 16, 2011 (for airplanes with conventional wing-to-fuselage fillets).

(h) Restatement of Requirements of AD 2009-26-17, Amendment 39-16156 (74 FR 69268, December 31, 2009), With New Service Information: Install or Replace

For airplanes with fuselage numbers identified in the applicable service bulletin listed in paragraph (g)(2) of this AD that are not also identified in the applicable service bulletin listed in paragraph (g)(1) of this AD, except for airplanes identified in paragraph (i) or (j) of this AD: Within 7,500 flight hours or 60 months, whichever occurs first after February 4, 2010 (the effective date of AD 2009-26-17, Amendment 39-16156 (74 FR 69268, December 31, 2009)), install or replace with improved parts, as applicable, the bonding straps between the metallic frame of the fillet and the wing leading edge ribs, on both the left and right sides of the airplane. Do the actions in accordance with the Accomplishment Instructions of the applicable service bulletin identified in paragraph (g)(2) or (g)(3) of this AD. After the effective date of this AD, use only the applicable service bulletin identified in paragraph (g)(3) of this AD to do the actions required by this paragraph.

(i) Restatement of Requirements of AD 2009-26-17, Amendment 39-16156 (74 FR 69268, December 31, 2009), With New Service Information: Strap Repositioning for Certain Airplanes

For Group 1-4, Configuration 3 airplanes, as identified in Boeing Service Bulletin DC10-53-109, Revision 7, dated March 3, 2009: Within 7,500 flight hours or 60 months after February 4, 2010 (the effective date of AD 2009-26-17, Amendment 39-16156 (74 FR 69268, December 31, 2009)), whichever occurs first, do the actions specified in paragraphs (i)(1) and (i)(2) of this AD.

(1) Remove two braided bonding straps and install two longer braided bonding straps between the metallic frame of the fillet and the wing leading edge ribs, in accordance with the Accomplishment Instructions of Boeing Service Bulletin DC10-53-109, Revision 7, dated March 3, 2009; or Boeing Service Bulletin DC10-53-109, Revision 8, dated March 10, 2011. After the effective date of this AD, use only Boeing Service Bulletin DC10-53-109, Revision 8, dated March 10, 2011, to do the actions required by this paragraph.

(2) Measure the resistance of the previously installed bonding straps and, before further flight, do all applicable corrective actions, in accordance with the Accomplishment Instructions of Boeing Service Bulletin DC10-53-109, Revision 7, dated March 3, 2009; or Boeing Service Bulletin DC10-53-109, Revision 8, dated March 10, 2011. After the effective date of this AD, use only Boeing Service Bulletin DC10-53-109, Revision 8, dated March 10, 2011, to do the actions required by this paragraph.

(j) Restatement of Requirements of AD 2009-26-17, Amendment 39-16156 (74 FR 69268, December 31, 2009), With New Service Information: Inspection and Corrective Action for Certain Airplanes

For Group 1-2, Configuration 2 airplanes, as identified in Boeing Service Bulletin DC10-53-111, Revision 6, dated March 3, 2009: Within 7,500 flight hours or 60 months after February 4, 2010 (the effective date of AD 2009-26-17, Amendment 39-16156 (74 FR 69268, December 31, 2009)), whichever occurs first, do the actions specified in paragraphs (j)(1) and (j)(2) of this AD.

(1) Do a general visual inspection to verify correct installation of the braided bonding straps (one left-hand wing and one right-hand wing) as shown in Sheet 7 in Figure 3 of Boeing Service Bulletin DC10-53-111, Revision 6, dated March 3, 2009, or Boeing Service Bulletin DC10-53-111, Revision 7, dated March 16, 2011; and, before further flight, do all applicable corrective actions, in accordance with the Accomplishment Instructions of Boeing Service Bulletin DC10-53-111, Revision 6, dated March 3, 2009, or Boeing Service Bulletin DC10-53-111, Revision 7, dated March 16, 2011. After the effective date of this AD, use only Boeing Service Bulletin DC10-53-111, Revision 7, dated March 16, 2011, to do the actions required by this paragraph.

(2) Measure the resistance of the previously installed bonding straps and, before further flight, do all applicable corrective actions, in accordance with the Accomplishment Instructions of Boeing Service Bulletin DC10-53-111, Revision 6, dated March 3, 2009; or Boeing Service Bulletin DC10-53-111, Revision 7, dated March 16, 2011. After the effective date of this AD, use only Boeing Service Bulletin DC10-53-111, Revision 7, dated March 16, 2011, to do the actions required by this paragraph.

(k) Credit for Previous Actions

This paragraph provides credit for the actions required by paragraphs (g), (h), (i), and (j) this AD, if those actions were accomplished before February 4, 2010 (the effective date of AD 2009-26-17, Amendment 39-16156 (74 FR 69268, December 31, 2009)), using Boeing Service Bulletin DC10-53-111, Revision 5, dated March 19, 2008; or Boeing Service Bulletin DC10-53-109, Revision 6, dated July 10, 2008.

(l) New Requirements of This AD: Installation and Corrective Actions for Certain Airplanes

Within 7,500 flight hours or 60 months after the effective date of this AD, whichever comes first: Do the applicable actions specified in paragraphs (l)(1) through (l)(6) of this AD, as applicable.

(1) For Group 1-4, Configurations 1 and 2 airplanes, as identified in Boeing Service Bulletin DC10-53-109, Revision 8, dated March 10, 2011, except airplanes that are identified in paragraph (g) of this AD: Remove any solid metal bonding straps and install 7 new braided bonding straps, in accordance with the Accomplishment Instructions of Boeing Service Bulletin DC10-53-109, Revision 8, dated March 10, 2011.

(2) For Group 1-4, Configurations 1 and 2 airplanes, as identified in Boeing Service Bulletin DC10-53-109, Revision 8, dated March 10, 2011, that are also identified in paragraph (g) of this AD: Remove any solid metal bonding straps not removed during the actions required by paragraph (g) of this AD and install a 7th new braided bonding strap (paragraph (g) of this AD requires installing 6 straps), in accordance with the Accomplishment Instructions of Boeing Service Bulletin DC10-53-109, Revision 8, dated March 10, 2011.

(3) For Group 1-4, Configuration 3 airplanes, as identified in Boeing Service Bulletin DC10-53-109, Revision 8, dated March 10, 2011, except airplanes identified in paragraph (i) of this AD: Do the actions specified in paragraphs (l)(3)(i) and (l)(3)(ii) of this AD.

(i) Replace one strap with new braided bonding strap, inspect to determine the existence of an installed solid metal bonding strap and replace any missing strap and any solid metal bonding strap with a new braided bonding strap, in accordance with the Accomplishment Instructions of Boeing Service Bulletin DC10-53-109, Revision 8, dated March 10, 2011.

(ii) Measure the electrical resistance across each bonding joint of the 6 previously-installed braided strap assemblies and verify that brackets have an acceptable fillet seal, and do all applicable corrective actions, in accordance with the Accomplishment Instructions of Boeing Service Bulletin DC10-53-109, Revision 8, dated March 10, 2011. Do all applicable corrective actions before further flight.

(4) For Group 1-4, Configuration 3 airplanes, as identified in Boeing Service Bulletin DC10-53-109, Revision 8, dated March 10, 2011, that are also identified in paragraph (i) of this AD: Do the actions specified in paragraphs (l)(4)(i) and (l)(4)(ii) of this AD.

(i) Inspect to determine the existence of an installed solid metal bonding strap and replace any missing strap and any solid metal bonding strap with a new braided bonding strap, in accordance with the Accomplishment Instructions of Boeing Service Bulletin DC10-53-109, Revision 8, dated March 10, 2011.

(ii) Measure the electrical resistance across each bonding joint of the 6 previously-installed braided strap assemblies and verify that brackets have an acceptable fillet seal, and do all applicable corrective actions, in accordance with the Accomplishment Instructions of Boeing Service Bulletin DC10-53-109, Revision 8, dated March 10, 2011. Do all applicable corrective actions before further flight.

(5) For Group 1-4, Configuration 4 airplanes, as identified in Boeing Service Bulletin DC10-53-109, Revision 8, dated March 10, 2011: Do the actions specified in paragraphs (l)(5)(i) and (l)(5)(ii) of this AD.

(i) Inspect to determine the existence of an installed solid metal bonding strap, and replace any missing strap and any solid metal bonding strap with a new braided bonding strap, in accordance with the Accomplishment Instructions of Boeing Service Bulletin DC10-53-109, Revision 8, dated March 10, 2011.

(ii) Measure the electrical resistance across each bonding joint of the 6 previously-installed braided strap assemblies and verify that brackets have an acceptable fillet seal, and do all applicable corrective actions, in accordance with the Accomplishment Instructions of Boeing Service Bulletin DC10-53-109, Revision 8, dated March 10, 2011. Do all applicable corrective actions before further flight.

(6) For Group 1-4, Configuration 5 airplanes, as identified in Boeing Service Bulletin DC10-53-109, Revision 8, dated March 10, 2011: Inspect to determine the existence of an installed solid metal bonding strap, and replace any missing strap and any solid metal bonding strap with a new braided bonding strap, in accordance with the Accomplishment Instructions of Boeing Service Bulletin DC10-53-109, Revision 8, dated March 10, 2011.

(m) Alternative Methods of Compliance (AMOCs)

(1) The Manager, Los Angeles Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) Before using any approved AMOC, notify your appropriate principal inspector, or lacking a principal inspector, the manager of the local flight standards district office/certificate holding district office.

(3) AMOCs approved previously in accordance with AD 2006-16-03, Amendment 39-14703 (71 FR 43962, August 3, 2006), are approved as AMOCs for the corresponding provisions of paragraphs (g), (h), (i), and (j) of this AD.

(4) AMOCs approved previously in accordance with AD 2009-26-17, Amendment 39-16156 (74 FR 69268, December 31, 2009), are approved as AMOCs for the corresponding provisions of paragraphs (g), (h), (i), and (j) of this AD.

(n) Related Information

(1) For more information about this AD, contact Samuel Lee, Aerospace Engineer, Propulsion Branch, ANM-140L, FAA, Los Angeles Aircraft Certification Office, 3960 Paramount Boulevard, Lakewood, California 90712-4137; phone: 562-627-5262; fax: 562-627-5210; email: Samuel.Lee@faa.gov.

(2) For service information identified in this AD, contact Boeing Commercial Airplanes, Attention: Data & Services Management, 3855 Lakewood Boulevard, MC D800-0019, Long Beach, California 90846-0001; telephone 206-544-5000, extension 2; fax 206-766-5683; email dse.boecom@boeing.com; Internet https://www.myboeingfleet.com. You may review copies of the referenced service information at the FAA, Transport Airplane Directorate, 1601 Lind Avenue SW., Renton, Washington. For information on the availability of this material at the FAA, call 425-227-1221.

Issued in Renton, Washington, on March 16, 2012.
Ali Bahrami,
Manager, Transport Airplane Directorate, Aircraft Certification Service.

[FR Doc. 2012-7386 Filed 3-27-12; 8:45 am]

BILLING CODE 4910-13-P